CONSUMER FINANCIAL PROTECTION BUREAU

[Docket No: CFPB-2025-0033]

Privacy Act of 1974; System of Records

AGENCY: Consumer Financial Protection Bureau.

ACTION: Notice of a modified system of records.

SUMMARY: The purpose of the Consumer Financial Protection Bureau (CFPB or Bureau) Advisory Boards and Committees system of record is to collect and maintain information on Bureau advisory committee members and applicants, and those that may interact with the Bureau regarding the committees. The records are used for administration of the advisory committees, including the evaluation of potential committee members for eligibility to serve on Bureau committees and preparation of minutes and reports of Bureau advisory committee meetings, events, or programs. The information will also be used for administrative purposes to ensure quality control, performance, and improving management processes.

DATES: Comments must be received no later than August 14, 2025. The modified system of records will be effective August 25, 2025 unless the comments received result in a contrary determination.

ADDRESSES: You may submit comments, identified by the title and docket number (see above Docket No. CFPB-2025-0033), by any of the following methods:

• Federal eRulemaking Portal: https://www.regulations.gov. Follow the instructions for submitting comments.

• Email: privacy@cfpb.gov. Include Docket No. CFPB-2025-0033 in the subject line of the email.

• Mail/Hand Delivery/Courier: Kathryn Fong, Chief Privacy Officer, Consumer Financial Protection Bureau, 1700 G Street NW, Washington, DC 20552. Because paper mail in the Washington, DC area and at CFPB is subject to delay, commenters are encouraged to submit comments electronically.

All submissions must include the agency name and docket number for this notice. In general, all comments received will be posted without change to https://www.regulations.gov. All comments, including attachments and other supporting materials, will become part of the public record and subject to public disclosure. You should submit only information that you wish to make available publicly. Sensitive personal information, such as account numbers or Social Security numbers, should not be included.

FOR FURTHER INFORMATION CONTACT: Kathryn Fong, Chief Privacy Officer, (202) 435-7058. If you require this document in an alternative electronic format, please contact CFPB_Accessibility@cfpb.gov.

SUPPLEMENTARY INFORMATION: Pursuant to Executive Order 14168 entitled, “Defending Women from Gender Ideology Extremism and Restoring Biological Truth to the Federal Government,” the CFPB is modifying its Privacy Act System of Records Notice (SORN) “CFPB.016—CFPB Advisory Boards and Committees” to update the “Categories of Records” section, which included “gender” as an example of demographic information, to the term “sex.” The CFPB does not propose any additional modifications to the SORN at this time.

SYSTEM NAME AND NUMBER:

CFPB.016—CFPB Advisory Boards and Committees.

SECURITY CLASSIFICATION:

Unclassified.

SYSTEM LOCATION:

Consumer Financial Protection Bureau, 1700 G Street NW, Washington, DC 20552.

SYSTEM MANAGER(S):

Consumer Financial Protection Bureau, Chief Operating Officer, 1700 G Street NW, Washington, DC 20552.

CATEGORIES OF RECORDS IN THE SYSTEM:

Information maintained on individuals who are applying to be, or are past, present or recommended members of Bureau advisory committees will include: (1) contact information (e.g., name, business phone number, email address); (2) information relevant to the Bureau's determination of an individual's eligibility for serving on a Bureau advisory committees, including but not limited to (a) that individual's date of birth, place of birth, citizenship and/or resident status, and any prior or pending civil or criminal actions against that individual for the purpose of conducting a background investigation; (b) education, registration in professional societies, work experience, record of performance, publications authored, membership on other boards and committees, professional awards, for purposes of assessing an individual's qualifications for service; (3) financial disclosure information, declaration of desire and eligibility to serve, and lobbyist registrations, for purposes of identifying any potential conflicts of interest that may arise from an individual's service on a Bureau advisory committees; (4) names of professional references and notes and records of conversations with those references; (5) demographic information, such as sex and race/ethnicity; and (6) miscellaneous correspondence relating to the above. Information maintained on experts, consultants, and other members of the public invited to provide advice or comments to a Bureau advisory committee or otherwise interact with a Bureau advisory committee will include contact information (e.g., name, business phone number, email address).

HISTORY:

83 FR 23435 (May 21, 2018); 78 FR 25428 (May 1, 2013).

Kathryn Fong,
Chief Privacy Officer, Consumer Financial Protection Bureau.

[FR Doc. 2025-13220 Filed 7-14-25; 8:45 am]

BILLING CODE 4810-AM-P